DEPARTMENT OF HOMELAND SECURITY

Coast Guard

[Docket No. USCG-2009-0384]

Maritime Security Directive 104-6 (Rev 2 and 3); Guidelines for U.S. Vessels Operating in High Risk Waters

AGENCY: Coast Guard, DHS.

ACTION: Notice of availability.

SUMMARY: The Coast Guard announces the release of Maritime Security (MARSEC) Directive 104-6 (Rev 2 and 3). This Directive only applies to U.S. flagged vessels subject to the Maritime Transportation Security Act (MTSA) on international voyages through or in designated high risk waters, and provides additional anti-piracy guidance and mandatory measures for these vessels operating in these areas where acts of piracy and armed robbery against ships are prevalent. MARSEC Directive 104-6 (Rev 2 and 3) also includes an annex that provides specific direction for vessels operating around the Horn of Africa. MARSEC Directives are designated Sensitive Security Information (SSI) and are not subject to public release.

DATES: MARSEC Directive 104-6 (Rev 2 and 3) are available on May 25, 2010.

ADDRESSES: The latest MARSEC Directives are available at your local Captain of the Port (COTP) office. Phone numbers and addresses for your local COTP office can be found in the Port Directory at http://homeport.uscg.mil.

FOR FURTHER INFORMATION CONTACT: If you have questions on this notice, call LCDR James T. Fogle, Office of Vessel Activities, Coast Guard, telephone 202—372-1038, e-mail James.T.Fogle@uscg.mil. If you have questions on viewing material on the docket, call Renee V. Wright, Program Manager, Docket Operations, telephone 202-366-9826.

SUPPLEMENTARY INFORMATION: Somali pirates operate along a 2,300 mile coast and in 2.5 million square miles of ocean. Given the size and complexity of the affected area, a combination of domestic and international efforts is necessary to curb piratical activities. The combination of piracy and weak rule of law in the region offers a potential breeding ground for other transnational threats. Accordingly, the U.S. has used existing statutory authority to develop regulations designed to protect U.S.-flagged vessels and continues to work with international partners to prevent piracy.

On February 10, 2006, the Coast Guard announced the release of MARSEC Directive 104-6 (71 FR 7054) for those owners and operators of vessels subject to 33 CFR parts 101 and 104 to provide direction to U.S. flagged vessels operating in high risk areas where acts of piracy and armed robbery against ships is prevalent. MARSEC Directive 104-6 (Rev 1) provided an updated list of the high risk waters based on a biennial review of global piracy and terrorism threats.

MARSEC Directive 104-6 (Rev 2), which was completed on May 11, 2009, provides additional counter-piracy guidance to U.S. flagged vessels operating in high risk waters where acts of piracy and armed robbery against ships are prevalent. It also provides a listing of additional high risk waters, updated from the previous version of the Directive.

MARSEC Directive 104-6 (Rev 3) encourages the use of industry best management practices that have proven to be successful in thwarting pirate attacks and incorporates lessons-learned since the issuance of Revision 2.

To support the issuance of MARSEC Directive 104-6 (series), we have developed piracy-related Port Security Advisories (PSAs)to provide further guidance and direction to U.S. flagged vessels operating in high risk waters to help facilitate compliance with this directive. The PSAs can be found at http://homeport.uscg.mil/piracy, including a non-SSI version of this MARSEC Directive.

Procedural:

COTPs and District Commanders can access all MARSEC directives on Homeport by logging in and going to Missions > Maritime Security > Maritime Transportation Security Act (MTSA) > Policy. Owners and operators of U.S. flagged vessels that travel on international voyages must contact their local COTP or cognizant District Commander to acquire a copy of MARSEC Directive 104-6 (Rev 3). COTPs or cognizant District Commanders may provide this MARSEC Directive to appropriate vessel owners and operators via mail or fax in accordance with SSI handling procedures.

Pursuant to 33 CFR 101.405, we consulted with the Department of State, Office of the Secretary of Defense, Joint Chiefs of Staff, Department of Transportation/Maritime Administration, Office of Naval Intelligence, Department of Commerce, Department of Justice, Military Sealift Command, Global Maritime Situational Awareness, Overseas Security Advisory Council, United States Agency for International Development, Naval Criminal Investigative Service, Customs and Border Protection, Transportation Security Administration, U.S. Africa Command, U.S. Central Command, and U.S. Transportation Command prior to issuing these Directives.

All MARSEC Directives issued pursuant to 33 CFR 101.405 are marked as SSI in accordance with 49 CFR Part 1520. COTPs and District Commanders will require individuals requesting a MARSEC Directive to prove that they meet the standards for a “covered person” under 49 CFR 1520.7, have a “need to know” the information, as defined in 49 CFR 1520.11, and that they will safeguard the SSI in MARSEC Directive 104-6 (Rev 3) as required in 49 CFR 1520.9.

Dated: May 17, 2010.
Kevin S. Cook,
USCG, Director of Prevention Policy.

[FR Doc. 2010-12483 Filed 5-24-10; 8:45 am]

BILLING CODE 9110-04-P